FEDERAL COMMUNICATIONS COMMISSION

47 CFR Part 10

[PS Docket Nos. 15-91 and 15-94; FCC 25-14; FR ID 284585]

Wireless Emergency Alerts; Emergency Alert System

AGENCY: Federal Communications Commission.

ACTION: Final rule.

SUMMARY: In this document, the Federal Communications Commission (Commission) revises the Wireless Emergency Alerts (WEA) rules to allow alert originators the option to send “silent alerts” that do not trigger WEA's common audio attention signal or vibration cadence. This action grants alert originators greater flexibility in tailoring how WEA messages are presented. Further, to make as clear as possible to the public that any device marketed as a “WEA-capable mobile device” adheres to the full suite of WEA capabilities, the Commission also adopts its proposals to define a “WEA-capable mobile device,” for the purpose of compliance with the Commission's WEA requirements.

DATES: The definitions of a WEA-capable mobile device and a mobile device for the purpose of WEA (section 10.10(j) through (m)), along with conforming edits (to the introductory text of section 10.500, section 10.500(i) through (j), the introductory text of section 10.520, and the introductory text of section 10.530), will become effective September 15, 2025. The silent alert rules adopted herein (sections 10.490 and 10.530(d)) will become effective March 18, 2028.

FOR FURTHER INFORMATION CONTACT: David Kirschner, Attorney-Advisor, Cybersecurity and Communications Reliability Division, Public Safety and Homeland Security Bureau, (202) 418-0695, or by email to david.kirschner@fcc.gov.

SUPPLEMENTARY INFORMATION: This is a summary of the Commission's Seventh Report and Order (R&O), PS Docket Nos. 15-91 and 15-94; FCC 25-14, adopted February 27, 2025, and released February 28, 2025. The full text of this document is available by downloading the text from the Commission's website at: https://www.fcc.gov/document/fcc-makes-weas-more-responsive-public-safety-and-consumer-needs. The full text of this document will also be available for public inspection and copying during regular business hours in the FCC Reference Center, 45 L Street NE, Washington, DC 20554. To request materials in accessible formats for people with disabilities (Braille, large print, electronic files, audio format), send an email to FCC504@fcc.gov or call the Consumer & Governmental Affairs Bureau at 202-418-0530 (voice), 202-418-0432 (TTY).

A proposed rule relating to Wireless Emergency Alerts and the Emergency Alert System is published elsewhere in this issue of the Federal Register.

Synopsis

I. Report and Order

A. Silent Alerts

1. To ensure that WEA remains a tool that alert originators can use to save lives and property in their states and in their communities without prompting widespread opt out, and to promote WEA's versatility to be used across a variety of circumstances and different times of day, we adopt our proposal to require Participating CMS Providers to support “silent alerts.” A silent alert is an alert that, at an alert originator's discretion, is presented without either the common audio attention signal, the common vibration cadence, or both. To ensure that WEAs sent without the Attention Signal can remain accessible to individuals with disabilities, we also require “WEA-capable mobile devices” to include the option to enable the presentation of the common vibration cadence for all WEA Alert Messages. If selected, that option must override the alert originator's selection on that device. We decline to adopt our proposal that Participating CMS Providers provide their subscribers with the option to durably turn off WEA's audio attention signal and vibration cadence for all alerts, which was opposed by commenters, because we agree with commenters that giving consumers this option risks increasing the rate at which people fail to notice Imminent Threat Alerts to which they must react immediately to protect their lives and property.

2. This action addresses concern in the record that the mandatory use of the Attention Signal with every WEA is limiting the situations where the benefits of using WEA outweigh the potential drawbacks. The National Ashanti Alert Network Stakeholder Working Group and Pilot Project Participants Working Group, groups established by the Department of Justice to create and share promising practices for missing adult alerts, jointly state that “WEA is a fantastic tool but is currently limited by the jarring alert tone that is currently associated with each and every activation.” They observe that WEA activations cause complaints when the public does not interpret the intrusiveness of the WEA Attention Signal as commensurate with the alert's relevance. They characterize the “blackout” periods that some alert originators have chosen to implement to spare the public from being awoken by a WEA at night as (in the case of AMBER Alerts) a “disservice to those who are missing and could be helped as there are many individuals who are awake and active (e.g., truck drivers) who could receive an alert and provide valuable assistance in locating a missing adult.”

3. Comments reflect that alert originators are generally best positioned to make the important decision of whether an alert will trigger the Attention Signal. The approach that we adopt today gives alerting authorities the “maximum flexibility” that alert originators like King County, Washington Emergency Management and New York City Emergency Management state that they need to increase the effectiveness of alerts.

4. WEA is a powerful tool. We recognize the perspective of ATIS and Several Colorado Agencies that “adding an option to be exercised by the alert originator in the moment, such as whether to include the audio attention signal, increases the potential for human error.” There is a risk of alert originators “erroneously setting the `silent' notification for alerts where a notification is needed (e.g., tornado)[,which] may result in citizens missing a WEA, putting them at risk.” We believe, however, that alert originators are the right stakeholders in the WEA system to manage this risk. King County, Washington Emergency Management observes that some alert originators already have experience determining whether to associate an audio attentional signal and vibration cadence with alerts based on the alert's urgency when they transmit those alerts via private mass notification systems. Even for alert originators that do not yet have experience controlling how the Attention Signal is presented along with their alerts, we believe that their experience managing emergencies in their communities is the most relevant to making decisions about how emergency alerts are presented. We therefore agree with AT&T that we should not attempt to establish “alert signal suppression rules for specific classes of WEA alerts that would remove the decision-making power from Alert Originators” and decline New York City Emergency Management's request that we limit alert originators' discretion in the use of silent WEAs to specific situations or specific alert message classifications. We encourage alert origination software developers to recognize the difficult task that alert originators confront and design this aspect of their alert origination software to be “configurable by each alerting authority” to maximize each agency's potential for effective alerting and minimize opportunity for error.

5. The record reflects that the ability to send silent alerts will be particularly useful in three scenarios: (1) AMBER Alerts, Missing and Endangered Persons (MEP) Alerts, and Blue Alerts sent either statewide or overnight; (2) follow-up messaging to relay additional, essential actions likely to save lives and/or safeguard property during ongoing emergencies; and (3) active shooter situations. While using silent alerts in these scenarios cannot completely eliminate the reasons for which people opt out of WEA, we agree with alert originators that use of silent alerts in the first two use cases can limit alert fatigue, which can reduce the rate of consumer opt out, and ultimately result in more people being opted in when their local alert originator sends an alert that could save their life. Alert originators also state that the ability to suppress the Attention Signal would make them more likely to send AMBER Alerts, MEP Alerts, and Blue Alerts during the evening and night when people are likely to be asleep. Sending these types of WEAs silently will make it possible for individuals that are awake and interacting with their mobile devices to receive and act upon the messages, including by rendering assistance to law enforcement, while avoiding the risk that such message will awaken or otherwise disturb people that might respond to the intrusion by opting out of receiving WEAs going forward. The National Weather Service and the United States Geological Survey recognize the value that silent WEAs would offer for the transmission of essential information after the initial alert about weather that poses an imminent threat and about earthquakes, respectively. Commenters state that the ability to suppress the Attention Signal for active shooter alerts will make it more likely that they will use WEA as a tool to keep people safe during such events because it will enable them to silently deliver WEAs that can direct people to avoid the area where the shooter is active while avoiding the risk that the Attention Signal will betray the location of people that need to remain hidden to stay safe. In light of this clear record, we decline CTIA's request that we seek further comment on whether the benefits of silent alerts outweigh the risks.

6. We agree with ATIS and CTIA that “the absence of any attention signal or vibration cadence will require the user to look at the mobile device display when the WEA is presented in order to be alerted” and that this creates “a risk that the user may be distracted away from their device because of the event and may miss any incoming WEA,” which would generally make those WEAs less effective. Accordingly, we take this opportunity to amplify the guidance that alert originators offer in this proceeding about how this new capability can maximize the effectiveness of WEA:

• When there is an imminent threat to life, emergency alerts “must get the attention of the targeted audience and compel review of the content.” There is an exception, however, for situations in which the audible delivery of the WEA Attention Signal could jeopardize the lives of those receiving the alerts, as described in the following bullet.

• Suppress the Attention Signal (1) when its presentation could jeopardize the lives of those receiving the alerts, including during active shooter situations, or (2) in situations where the receipt of a WEA has been shown to prompt recipients to opt out of receiving alerts, such as statewide AMBER and Blue Alerts.

• Public safety messages that accompany Imminent Threat Alerts and that provide essential advisories, like boil water orders, may be issued as silent alerts.

• State/Local WEA Tests should use the Attention Signal because people do not receive State/Local WEA Tests at all unless they have affirmatively opted in to receive them. Therefore, use of the Attention Signal “allows for public education on what the tone sounds like, ensuring the tone is working . . . in a controlled environment that would not increase opt-outs.”

We encourage but do not require alert originators to follow this guidance or to develop their own internal policies and procedures for determining whether and how to use the Attention Signal in their alerts. It will be important for alert originators to create and follow best practices about the use of silent alerts so that their use enhances, rather than limits WEA's efficacy.

7. Our action today to require that Participating CMS Providers and equipment manufacturers may only market a mobile device for public use under part 10 as a “WEA-capable mobile device” if the mobile includes a vibration cadence capability that enables subscribers to override alert originators' suppression of the common vibration cadence will also enhance WEA's efficacy. Ricky Harris, a Deaf resident of Houston, Texas, explains the challenges that individuals who are deaf and hard of hearing face during unpredictable thunderstorms and flash floods in his neighborhood: “I relied on guesswork and observation to navigate. Unfortunately, I was completely unaware that radio broadcasts were already issuing specific evacuation routes. This lack of information put me in danger and left me vulnerable. People later questioned my route choice, unaware of the communication gap I had experienced.” With the action that we take today, individuals who are deaf and hard of hearing will have the option to ensure that the common vibration cadence is always presented along with their WEA messages, irrespective of the alert originator's selection, which will draw their attention to the arrival of a WEA. New York City Emergency Management notes that using the vibration cadence alone can be sufficient to get people's attention in a range of scenarios. The vibration cadence can be felt, including by many people with disabilities, when the mobile device is in contact with their body, and can often be heard when the mobile device is in contact with another surface. In this way, the action that we take today realizes, in part, the advocacy objectives of New York City Emergency Management and a coalition of Accessibility Organizations and Academics, that “users—not providers or alerting authorities—decide whether to silence WEAs or cancel vibration cadences to avoid a one-size-fits-all approach to WEA notifications.” While the approach that we adopt today gives alerting authorities discretion over whether to transmit a silent alert, bearing in mind the needs of individuals with disabilities, those individuals will now be presented with greater control over their receipt of the common vibration cadence to strike the right balance for their individual needs. WEA-capable mobile devices must not, however, allow individuals to override alert originators' decision to suppress the audio attention signal; doing so would eliminate or seriously reduce the value of WEA in active shooter situations. If people are hiding together from an active shooter, any one of their devices emitting the audio attention signal would be sufficient to betray their location. While we understand CTIA's concern that allowing consumers to override the vibration cadence may potentially disclose a person's location during an active shooter situation, we find that supporting the ability for individuals with disabilities to receive potentially lifesaving alerts via the vibration cadence outweighs the low risk that the relatively quiet presentation of the WEA vibration cadence will result in injury or loss of life.

8. We reject Several Colorado Agencies' recommended approach that the Commission “require the audio attention signal for both EAS and WEA.” We also reject the Language Accessibility in Alert and Warning Working Group and Regional Disaster Preparedness Organization of the Portland-Vancouver Metro Region's recommended approach that “Alert Originators can set the WEA alert to one of three options: silent, follow the device's notification sound setting, or override and make sound and vibration.” Accepting either of these recommendations would deprive consumers of the flexibility that they currently have under our rules to mute the Attention Signal, e.g., by putting their device in do-not-disturb mode. We do not find removing this consumer choice to be in the public interest.

9. Nothing about the rule we adopt today would change functions that allow consumers to choose to opt out of receiving certain types of WEA messages, to mute the Attention Signal, or to specify vibration and audio attention signal presentation during active voice or data sessions. Participating CMS Providers and equipment manufacturers will still have the ability to implement a binary consumer opt out feature that defaults to have subscribers opted in to receive all WEA Alert Message classifications and their associated Attention Signal and that allows them to opt out of Imminent Threat Alerts, AMBER Alerts, and Public Safety Messages entirely. Participating CMS Providers and equipment manufacturers also may continue to enable subscribers to mute the Attention Signal using “do not disturb” and other mobile device capabilities for alerts where the Attention Signal is presented by default. Finally, Participating CMS Providers and equipment manufacturers may specify how the Attention Signal is presented during an active voice or data session, insofar as they currently take advantage of that flexibility and it remains relevant in the modern technological environment.

B. Required Mobile Device Capabilities

10. To allow consumers to be confident that they are informed about the WEA capabilities of the mobile devices they purchase and to more fully describe how the requirements that we adopt today apply to those devices, we adopt our proposed definitions of a “mobile device” for the purposes of WEA and a “WEA-capable mobile device.” We define a “mobile device” for the purpose of WEA as “any customer equipment used to receive commercial mobile service.” This definition of a mobile device for the purpose of WEA reflects the WARN Act's direction that the Commission “adopt technical standards, protocols, procedures, and other requirements . . . necessary to enable commercial mobile service alerting capability.” While it may be possible to deliver emergency alerts to customer wireless equipment that Participating CMS Providers sell by using a technology other than commercial mobile service, as a legal matter, we would not consider those emergency alerts to be WEAs. Defining a mobile device for the purpose of WEA as customer equipment that can receive commercial mobile service is also appropriate from a technical perspective. AT&T states that customer equipment needs to be able to attach to the commercial mobile service network to directly receive a WEA via cell broadcast, the technology generally used to transmit WEAs to mobile devices. We also continue to believe, as the Commission stated in the 2023 WEA Accessibility FNPRM, that this definition of a “mobile device” for the purpose of WEA is appropriate because, unlike the part 10 rules' current definition of a mobile device, it acknowledges the possibility that equipment may not be technically capable of supporting WEA (i.e., if it is not capable of receiving commercial mobile service). Distinguish this from a Non-service Initialized (NSI) phone. While NSI phones may not, in fact, receive commercial mobile service at a given point in time, they are technically capable of receiving commercial mobile service once service is initialized for the device. Therefore, NSI phones are “used to receive commercial mobile service” for the purpose of this rule and are “mobile devices” for the purpose of WEA. We clarify that Participating CMS Providers are not required to market NSI devices as “WEA-capable,” and may market them in this way conditionally (e.g., “WEA-capable upon activation of service”). NSI phones—like all mobile devices—may only be marketed as “WEA-capable” if the device complies with part 10, subpart E of our rules. At the same time, this definition is broad enough to potentially include devices that are commonly considered to be mobile devices, such as commercial mobile service-enabled tablets, wearables, or other non-smartphone devices. A device such as a tablet or wearable that connects to the internet solely by means other than commercial mobile service (e.g., Wi-Fi) would not fall within section 10.10's “mobile device” definition. By contrast, devices such as tablets and wearables that support connection to the internet via commercial mobile service would be considered as mobile devices for the purpose of WEA under this rule.

11. The way that we define a mobile device for the purpose of WEA may include some smaller equipment that, AT&T opines, is not capable of presenting alert messages due to limitations such as chipset support, maintaining the form factor, and maintaining battery life. While this equipment may not have been designed with WEA in mind, the definition of a mobile device for the purpose of WEA that we adopt today signals to Participating CMS Providers and equipment manufacturers that consumers may expect those devices to be WEA-capable. Our adoption of this rule may prompt Participating CMS Providers and equipment manufacturers to consider whether smaller, wearable equipment that does not support WEA today can be made WEA-capable through changes to hardware or software. The definition of a mobile device for the purpose of WEA that we adopt today also excludes some devices that Participating CMS Providers sell. A smartwatch that is capable of only Wi-Fi or Bluetooth connectivity, for example, may be able to present a WEA to its wearer by receiving it through a WEA-capable smartphone to which it is tethered. We do not consider these devices to be “mobile devices” for the purpose of WEA, however, because their ability to receive a WEA is derivative of the device to which they are connected. Participating CMS Providers may continue to market this equipment for sale while continuing to participate in WEA “in whole.”

12. As proposed, we define a “WEA-capable mobile device” as a mobile device that is compliant with all of the Commission's WEA rules. When the Commission adopted the definition of a “mobile device” for the purpose of WEA in 2012 in anticipation of the system's deployment, the primary distinction between mobile devices for the purpose of WEA was whether they could receive alert messages. Today, the wireless industry's public disclosures reflect that devices marketed for public use under part 10 support a wide array of WEA functionalities, but that not all mobile devices support all of WEA's required features. The purpose of the rule we adopt today is to avoid consumer confusion about the WEA capabilities of mobile devices. We find that the rule we adopt today addresses any communication with consumers about the WEA capabilities of devices, which we could consider for purposes of these rules to be a form of marketing, regardless of whether a Participating CMS Provider would consider that communication to be a “disclosure.” We further note that sections 10.510, 10.520, and 10.530 of our rules already restrict how Participating CMS Providers and equipment manufacturers can “market” devices that support WEA, so we believe that it is appropriate to continue to use that language in the interest of consistency. To further ensure that consistency, we amend section 10.500 to continue to also use that “marketing” language. For example, T-Mobile markets as “alert-capable” Apple's iPhone 5, which is able to receive the basic 90-character maximum WEA text, but does not support clickable links, the preservation of alerts for user review, Spanish-language alerts, the presentation of alerts concurrent with active voice or data sessions, Public Safety Messages, State/Local WEA Tests, or enhanced geographic targeting. While, generally, mobile devices released after a rule's effective date support the features those rules require, Participating CMS Providers and equipment manufacturers have not pushed software updates necessary to enable new WEA features to mobile devices in the field that no longer support software updates. To account for the diversity among the WEA capabilities of mobile devices available today, we find it appropriate to update our regulatory framework to account for the extent to which the Commission has required WEA to evolve over the years to keep pace with advances in technology and changing consumer expectations for emergency communications. This change will promote informed consumer choice about the emergency alerting capabilities of mobile devices that consumers are considering for purchase.

13. We also make explicit that WEA-capable mobile devices must support each of the alert message requirements in part 10, subpart D. Specifically, a WEA-capable mobile device must support the WEA Alert Message classifications, device-based geo-targeting, Alert Messages that contain a maximum of 360 characters of alphanumeric text, embedded references, Spanish-language alerts, the silent alert feature we adopt today, and the basic equipment requirements codified in subpart E of the WEA rules. If the Commission were to adopt new alert message or equipment requirements in the future, the rules we adopt today would require devices to support those new requirements in order to continue to be considered to be WEA-capable, beginning on the deadline for the implementation of those requirements. However, devices can continue to be considered WEA-capable prior to that implementation deadline. Insofar as consumers make mobile device purchasing decisions based on marketed WEA capabilities, we believe that it is usually in connection with their purchase of a new device. According to ATIS, new mobile devices either support all of WEA's functions as of the date of their release, or they support none of them, which supports the binary distinction (“WEA-capable” or not) that we adopt. Today, the term “WEA-capable mobile device” is undefined in our rules but Participating CMS Providers use it in their marketing materials to refer to new mobile devices as well as mobile devices that are over a decade old and support only the basic WEA functions available since 2012. The Language Accessibility in Alert and Warning Working Group, King County, Washington Emergency Management, Michigan State Police, the New York State Department of Homeland Security and Emergency Services, and the County of San Diego Department of Emergency Services support adoption of our proposed definition of a “WEA-capable mobile device” because clearly labeling devices that support all WEA functions promotes informed consumer choice about public safety services and promotes the use of mobile devices as disaster preparedness tools. We agree with APCO that “the status quo approach to mobile device eligibility may mislead consumers into mistakenly believing that all [mobile devices marketed as] `WEA-capable mobile devices' offer all WEA capabilities.” Accordingly, we disagree with T-Mobile that whether a device supports the basic receipt of a WEA message is the most important criterion to the definition of a “WEA-capable mobile device,” and we disagree with Verizon that we should codify the WEA “versions” (e.g., 1.0, 2.0, and 3.0) on which existing marketing materials rely.

14. We recognize other commenters' perspective that defining a WEA-capable mobile device as we do today could also be confusing. Indeed, as a result of our action today, many mobile devices that are compatible with presentation of WEAs will no longer be marketed as “WEA-capable.” By contrast to the status quo, we find this potential for confusion to be acceptable and mitigable. If a consumer is confused about the WEA capabilities of a mobile device marketed as WEA-capable as we define it today, it would only be the surprise of learning that a device, in fact, has WEA capabilities that it was not marketed as having. We find this to be preferable to the confusion that might result from purchasing a device marketed as “WEA-capable” only to discover that it supports fewer than all of WEA's capabilities. To ensure that customers can be well informed about the WEA service that they should expect to receive on devices marketed as “WEA-capable,” we direct the Public Safety and Homeland Security Bureau to publish a consumer guide and keep up to date information regarding the capabilities required of such devices.

15. Pursuant to the WARN Act, our rules permit CMS Providers to participate in WEA so long as at least one mobile device that they offer for sale is WEA-capable. We encourage Participating CMS Providers to make as many mobile devices as possible “WEA-capable” to ensure WEA is available on the types of devices often relied on by the public, including those with disabilities. New York City Emergency Management emphasizes the importance of preserving WEA compatibility for older devices that may no longer support over-the-air software upgrades necessary to comply with all the WEA equipment requirements, particularly for “populations that may not have the resources to obtain a newer device.” As AT&T, T-Mobile, and Verizon recognize, consumers with mobile devices that are no longer considered to be WEA-capable as a result of this regulatory change will continue to be able to receive WEAs on their mobile devices even though those devices do not support all WEA's features.

16. Finally, we make conforming edits to reflect that Participating CMS Providers and equipment manufacturers may market mobile devices irrespective of their WEA capabilities, but they will be prohibited from marketing a mobile device as a “WEA-capable mobile device” unless it complies with the revised WEA mobile device equipment requirements, including the ability to support silent alerts. Similarly included in this prohibition is marketing language that could mislead consumers into the mistaken belief that the device they are considering for purchase is compliant with the WEA rules (e.g., “Wireless Emergency Alert Compatible Devices,” “alert-capable devices,” or the identification of mobile device capabilities by version number, such as 1.0, 2.0, or 3.0).

C. Compliance Timeframes

17. The deadline for compliance with the silent alert requirements will be 36 months from the publication of this Seventh Report and Order in the Federal Register. The record shows that compliance with these requirements would necessitate technically feasible changes to applicable standards and software. Specifically, support for this capability will require updates to alert origination software, FEMA's Integrated Public Alert and Warning System (IPAWS), Participating CMS Providers' WEA systems, and mobile devices. AT&T synopsizes as follows how the capability to send silent alerts would be implemented: “[i]t may be possible for Alert Originators to include an information element within a WEA message that would direct a user's device to suppress the alert signal while still displaying the WEA alert.” To support the subscriber capability to override the alert originator's suppression of the common vibration cadence, mobile device manufacturers and operating system developers will need to determine how WEA-capable mobile devices display the option to override silent alerts. We agree with AT&T that these capabilities “would require extensive study, standards development, testing, and deployment, and the Commission would need to provide sufficient time for these steps to be completed.” We provide sufficient time with the compliance deadline that we adopt today. ATIS, AT&T, and FEMA recommend study “of all potential use cases for the `silent alert,' along with the pros/cons of a silent alert” to give alert originators an opportunity to prepare best practices and procedures that enable them to use this capability effectively. We encourage our federal partners, such as FEMA and the National Weather Service and alert originators along with their advocacy groups, such as the National Emergency Management Association and the International Association of Emergency Managers, to conduct this study. We disagree with ATIS, however, that this study must “be undertaken prior to any decision to move forward with design and implementation.” Rather, we agree with AT&T that it is sufficient for this study to be completed before the capability's implementation because the study pertains to alert originators' use of the capability, not the technical feasibility of its implementation. While the record in this proceeding did not specifically quantify the amount of time that compliance would require, based on our experience with adopting other WEA requirements that have entailed at least this much technical development, we anticipate that 30 months will permit ample time for industry to complete the standards and software development work required to support this functionality while alert originators focus on developing best practices and use cases. However, we acknowledge that industry is already in the process of implementing new WEA capabilities. We acknowledge that the simultaneous adoption of several new WEA capabilities may potentially create resource constraints and cause delays to deployment, and therefore grant Participating CMS Providers an additional six months to implement silent alerts.

18. In adopting this 36-month compliance timeframe, we highlight that the date of required compliance marks the beginning, rather than the end, of the transition to full system support for this functionality. As AT&T and ATIS observe, at the outset there will be an “inherent mix of handsets that can and cannot support this feature,” but we disagree with AT&T that this will prevent the feature from being used. Rather, alert originators will determine the extent to which they will begin to use this feature on the date of required compliance in full knowledge of the limitations of handset support and with a reasonable expectation that handset support for the capability will mature over time. Our experience suggests that it will take about three years after the date of required compliance to reach 88% market penetration of mobile devices that support the capability to silence alerts. Out of an abundance of caution, and to ensure the continued accessibility of WEA, we emphasize that any mobile devices that do not support silent alerts as of the date of required compliance must present the Attention Signal for all alerts, subject to the consumer control over the presentation of the Attention Signal that our rules otherwise provide.

19. We believe it is particularly important that we adopt a definition of a WEA-capable mobile device in this Seventh Report and Order because, to maintain the accessibility of silent alerts for individuals with disabilities, the capability to support silent alerts must be accompanied by the capability to override the suppression of the vibration cadence. Prohibiting Participating CMS Providers and equipment manufacturers from marketing as WEA-capable mobile devices that support one of these capabilities, but not the other, will avoid the possibility that the adoption of this requirement renders silent WEAs inaccessible. To ensure that the public is able to realize the benefits of regulatory clarity that these new definitions provide and enable Participating CMS Providers to make any necessary adjustments to their marketing, these rule revisions will become effective 180 days after the publication of this Seventh Report and Order in the Federal Register. We join FEMA in encouraging standards bodies and mobile device manufacturers to consider solutions for the silent alerting functionality that support backwards compatibility with older systems to hasten the deployment of this feature and increase the availability of WEA-capable mobile devices.

D. Analysis of Costs and Benefits

20. We find that the benefits of requiring compliance with this requirement exceed the anticipated costs. Commenters generally agree with our proposal that giving alert originators the ability to suppress presentation of the Attention Signal during active shooter situations could make WEA a more effective tool in that situation. No commenter opposed our analysis that making WEA a better tool for active shooter scenarios could reduce casualties by discretely warning the public, which would yield substantial public safety benefits. According to the Federal Bureau of Investigation, there were 61 active shooter incidents in 2021, resulting in 243 casualties, including 103 deaths and 140 injuries. These incidents continue. In 2023, the Federal Bureau of Investigation designated an additional 48 shootings as active shooter incidents with 244 casualties, including 105 killed and 139 injuries. Accordingly, we continue to find it reasonable that suppressing the audio attention signal and vibration cadence during active shooters scenarios could generate significant public safety benefits. This is even before considering that selective suppression could benefit the public by reducing consumer opt out, that defining a “mobile device” for the purpose of WEA could benefit the public by increasing the availability of WEA on tablets and wearables, and that defining a “WEA capable mobile device” will enhance the value of marketing disclosures.

21. We find that the value of those benefits would have to exceed $37.7 million to exceed their anticipated cost. We find that premise is satisfied and that the cost estimates are valid. In the Further Notice of Proposed Rulemaking, the Commission reasoned that these costs comprise approximately $814,000 to update applicable WEA standards and approximately $39.1 million to update applicable software. We continue to rely on this methodology for assessing the cost of compliance with this requirement, to which no commenter objected. On our own initiative, however, we update this analysis to account for changes in the wage rate of workers likely to be engaged in the process of compliance and to update our account of the number of CMS Providers that participate in WEA. We now estimate that the cost is slightly less than proposed: $889,000 to update applicable standards and $36.8 million to update applicable software for a total of $37.7 million.

22. Since WEA's inception, the Commission has never recognized a cost to Participating CMS Providers or equipment manufacturers associated with the marketing of mobile devices or their WEA capabilities. No commenter in this proceeding suggests that they will incur any costs to comply with this requirement, so we do not diverge from that analysis here. We continue to decline to assign a dollar value to that activity for the purpose of this cost benefit analysis because marketing is purely voluntary commercial activity unnecessary to the provision of commercial mobile service or the sale of mobile devices. CMS Providers that market their mobile devices do so because they anticipate that the economic benefits of doing so will outweigh the costs. Insofar as Participating CMS Providers and equipment manufacturers market their mobile devices based on their WEA-capabilities, the definitions that we adopt today may implicate changes to those marketing materials. No Participating CMS Provider or equipment manufacturer will have to change their existing marketing materials as a result of this requirement, however, because the WEA capabilities that they support on devices that they sell are completely at their discretion, pursuant to the WARN Act. CMS Providers may continue to participate in WEA “in part” so long as one mobile device that they sell is a WEA-capable mobile device, as we define it today.

II. Procedural Matters

23. Regulatory Flexibility Act. The Regulatory Flexibility Act of 1980, as amended (RFA), requires that an agency prepare a regulatory flexibility analysis for notice and comment rulemakings, unless the agency certifies that “the rule will not, if promulgated, have a significant economic impact on a substantial number of small entities.” Accordingly, the Commission has prepared a Final Regulatory Flexibility Analysis (FRFA) concerning the possible impact of the rule changes contained in this Seventh Report and Order on small entities. The FRFA is set forth in Appendix C of the Commission document.

24. Congressional Review Act. The Commission has determined, and the Administrator of the Office of Information and Regulatory Affairs, Office of Management and Budget, concurs, that this rule is “non-major” under the Congressional Review Act, 5 U.S.C. 804(2). The Commission will send a copy of this Seventh Report and Order to Congress and the Government Accountability Office pursuant 5 U.S.C. 801(a)(1)(A).

25. Paperwork Reduction Act. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

26. People with Disabilities. To request materials in accessible formats for people with disabilities (braille, large print, electronic files, audio format), send an email to fcc504@fcc.gov or call the Consumer & Governmental Affairs Bureau at 202-418-0530 (voice).

III. Ordering Clauses

27. Accordingly it is ordered, pursuant to the authority contained in Sections 1, 2, 4(i), 4(n), 301, 303(b), 303(e), 303(g), 303(j), 303(r), 307, 309, 316, 403, and 706 of the Communications Act of 1934, as amended, 47 U.S.C. 151, 152, 154(i), 154(n), 301, 303(b), 303(e), 303(g), 303(j), 303(r), 307, 309, 316, 403, and 606, as well as by sections 602(a), (b), (c), (f), 603, 604 and 606 of the Warning Alert and Response Network (WARN) Act, 47 U.S.C. 1201(a), (b), (c), (f), 1203, 1204 and 1206, that this Seventh Report is hereby adopted.

28. It is further ordered that part 10 of the Commission's rules is amended as specified in Appendix A of the Commission document. The definitions of a WEA-capable mobile device and a mobile device for the purpose of WEA (section 10.10(j) through (m)), along with conforming edits (to the introductory text of section 10.500, section 10.500(i) through (j), the introductory text of section 10.520, and the introductory text of section 10.530), will become effective 180 days after the publication of this Seventh Report and Order in the Federal Register. The silent alert rules adopted herein (sections 10.490 and 10.530(d)) will become effective thirty-six (36) months after publication of this Seventh Report and Order in the Federal Register.

29. It is further ordered that the Commission's Office of the Secretary shall send a copy of this Seventh Report and Order, including the Final Regulatory Flexibility Analyses, to the Chief Counsel for Advocacy of the Small Business Administration.

30. It is further ordered that the Office of the Managing Director, Performance & Program Management, shall send a copy of this Seventh Report and Order in a report to be sent to Congress and the Government Accountability Office pursuant to the Congressional Review Act, 5 U.S.C. 801(a)(1)(A).

List of Subjects in 47 CFR Part 10

Communications, Communications equipment, Electronic products, Individuals with disabilities, Telecommunications.

Federal Communications Commission.
Marlene Dortch,
Secretary.

Final Rules

For the reasons discussed in the preamble, the Federal Communications Commission amends 47 CFR part 10 as follows:

PART 10—WIRELESS EMERGENCY ALERTS

1. The authority citation for part 10 is revised to read as follows:

Authority: 47 U.S.C. 151, 152, 154(i), 154(n), 201, 301, 303(b), 303(e), 303(g), 303(j), 303(r), 307, 309, 316, 403, 544(g), 606, 1201, 1202, 1203, 1204, and 1206.

2. Effective September 15, 2025, amend § 10.10 by revising paragraph (j), redesignating paragraph (l) as paragraph (m), redesignating paragraph (k) as paragraph (l), and adding a new paragraph (k) to read as follows:

§ 10.10 Definitions.

* * * * *

(j) Mobile Device. For the purposes of this part, any customer equipment used to receive commercial mobile service.

(k) WEA-capable Mobile Device. A mobile device, as defined in paragraph (j) of this section, that complies with the part 10, subpart E equipment requirements.

(l) CMS Provider participation “in whole.” CMS Providers that have agreed to transmit WEA Alert Messages in a manner consistent with the technical standards, protocols, procedures, and other technical requirements implemented by the Commission in the entirety of their geographic service area, and when all mobile devices that the CMS Providers offer at the point of sale are WEA-capable.

(m) CMS Provider participation “in part.” CMS Providers that have agreed to transmit WEA Alert Messages in a manner consistent with the technical standards, protocols, procedures, and other technical requirements implemented by the Commission in some, but not in all of their geographic service areas, or CMS Providers that offer mobile devices at the point of sale that are not WEA-capable.

3. Effective March 18, 2028, add § 10.490 to read as follows:

§ 10.490 Silent Alerts.

A Participating CMS Provider must support an alert originator's selection of whether an Alert Message will be presented without either the common audio attention signal (§ 10.520), the common vibration cadence (§ 10.530), or both.

4. Effective September 15, 2025, amend § 10.500 by revising the introductory text, adding and reserving paragraph (i), and adding paragraph (j) to read as follows:

§ 10.500 General requirements.

A mobile device marketed for public use under part 10 as a “WEA-capable mobile device” is required to perform the following functions:

* * * * *

(i) [Reserved]

(j) Support the Alert Message Requirements in subpart D of this part.

5. Amend § 10.520 by revising the introductory text to read as follows:

§ 10.520 Common audio attention signal.

A Participating CMS Provider and equipment manufacturers may only market a mobile device for public use under part 10 as a “WEA-capable mobile device” if the mobile device includes an audio attention signal that meets the requirements of this section.

* * * * *

6. Effective September 15, 2025, amend § 10.530 by revising the introductory text to read as follows:

§ 10.530 Common vibration cadence.

A Participating CMS Provider and equipment manufacturers may only market a mobile device for public use under part 10 as a “WEA-capable mobile device” if the mobile device includes a vibration cadence capability that meets the requirements of this section.

* * * * *

7. Effective March 18, 2028, further amend § 10.530 by adding paragraph (d) to read as follows:

§ 10.530 Common vibration cadence.

* * * * *

(d) A device must include the option to enable the presentation of the common vibration cadence for all Alert Messages. If selected, that option overrides the alert originator's selection to present an Alert Message without the common vibration cadence.

[FR Doc. 2025-04126 Filed 3-17-25; 8:45 am]

BILLING CODE 6712-01-P